ENVIRONMENTAL PROTECTION AGENCY

[ER-FRL-9049-1]

Environmental Impact Statements; Notice of Availability

Weekly receipt of Environmental Impact Statements

Filed January 13, 2020, 10 a.m. EST,

Through January 20, 2020, 10 a.m. EST,

Pursuant to 40 CFR 1506.9.

Responsible Agency: Office of Federal Activities, General Information 202-564-5632 or https://www.epa.gov/nepa/.

Section 309(a) of the Clean Air Act requires that EPA make public its comments on EISs issued by other Federal agencies. EPA's comment letters on EISs are available at: https://cdxnodengn.epa.gov/cdx-enepa-public/action/eis/search.

EIS No. 20200009, Final, BLM, CA, Haiwee Geothermal Leasing Area, Review Period Ends: 02/24/2020, Contact: Gregory Miller 951-697-5216

EIS No. 20200010, Draft, UDOT, UT, Parley's Interchange, I-80/I-215 Eastside, Comment Period Ends: 03/09/2020, Contact: Naomi Kisen 801-965-4005

EIS No. 20200011, Final, USAF, CA, Environmental Impact Statement/Environmental Impact Report for the Edwards AFB Solar Project, Review Period Ends: 02/24/2020, Contact: Andrea Brewer-Anderson 661-277-4948

EIS No. 20200012, Final Supplement, NASA, FL, Supplement Environmental Impact Statement for the Mars 2020 Mission, Review Period Ends: 02/24/2020, Contact: George Tahu 202-238-0016

EIS No. 20200013, Final, NMFS, REG, Final Regulatory Amendment to Modify Pelagic Longline Bluefin Tuna Area-Based and Weak Hook Management Measures, Review Period Ends: 02/24/2020, Contact: Jennifer Cudney 727-209-5980

EIS No. 20200014, Final, NRCS, ID, ADOPTION—Bruneau-Owyhee Sage-Grouse Habitat Project, Contact: Curtis Elke 208-378-5701

The Natural Resources Conservation Service (NRCS) has adopted the Bureau of Land Management's Final EIS No 20180015, filed 02/02/2018 with the EPA. NRCS was a cooperating agency on this project. Therefore, recirculation of the document is not necessary under Section 1506.3(c) of the CEQ regulations.

EIS No. 20200015, Final, USACE, FL, Central and Southern Florida, Everglades Agricultural Area (EAA), Florida, Review Period Ends: 02/24/2020, Contact: Andrew LoSchiavo 904-232-2077

Amended Notice

EIS No. 20190279, Draft, USACE, CO, Halligan Water Supply Project, Comment Period Ends: 02/26/2020, Contact: Cody Wheeler 720-922-3846. Revision to FR Notice Published 11/22/2019; Extending the Comment Period from 1/27/2020 to 2/26/2020.

EIS No. 20190295, Draft, USFS, ID, Land Management Plan Revision for the Nez Perce-Clearwater National Forests, Comment Period Ends: 04/20/2020, Contact: Zachary Peterson 208-935-4239. Revision to FR Notice Published 12/20/2019; Extending the Comment Period from 03/19/2020 to 04/20/2020.

Dated: January 21, 2020.
Robert Tomiak,
Director, Office of Federal Activities.

[FR Doc. 2020-01186 Filed 1-23-20; 8:45 am]

BILLING CODE 6560-50-P